FEDERAL COMMUNICATIONS COMMISSION

47 CFR Part 73

[MB Docket No. 21-254; RM-11911; DA 21-705; FR ID 34373]

Television Broadcasting Services Fredericksburg, Texas

AGENCY: Federal Communications Commission.

ACTION: Proposed rule.

SUMMARY: The Commission has before it a petition for rulemaking filed by Corridor Television, L.L.P. (Petitioner), the licensee of KCWX (MyNetwork), channel 5, Fredericksburg, Texas. The Petitioner requests the substitution of channel 8 for channel 5 at Fredericksburg in the DTV Table of Allotments.

DATES: Comments must be filed on or before July 26, 2021 and reply comments on or before August 9, 2021.

ADDRESSES: Federal Communications Commission, Office of the Secretary, 45 L Street NE, Washington, DC 20554. In addition to filing comments with the FCC, interested parties should serve counsel for the Petitioner as follows: Jonathan Mark, Esq., Davis Wright Tremaine LLP, 1301 K Street NW, Suite 500 East, Washington, DC 20005.

FOR FURTHER INFORMATION CONTACT: Joyce Bernstein, Media Bureau, at (202) 418-1647 or at Joyce.Bernstein@fcc.gov .

SUPPLEMENTARY INFORMATION: In support of its channel substitution request, the Petitioner states that since it converted to digital channel 5 operations in 2009 it has received numerous complaints from the public about poor reception. The Petitioner recounts the steps it has taken to improve reception on its low-VHF channel, but concludes that it has no option to resolve the Station's reception problems other than to move from its low-VHF channel 5 to high-VHF channel 8. In its Amended Engineering Statement, the Petitioner proposes to utilize a Distributed Transmission System (DTS) facility comprised of six single frequency network (SFN) nodes, and submitted documentation showing that the loss areas would continue to be well-served by at least five other television stations, except an area with only 14 people, a number the Commission considers de minimis.

This is a synopsis of the Commission's Notice of Proposed Rulemaking, MB Docket No. 21-254; RM-11911; DA 21-705, adopted June 16, 2021, and released June 16, 2021. The full text of this document is available for download at https://www.fcc.gov/edocs. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a Notice of Proposed Rulemaking is issued to the time the matter is no longer subject to Commission consideration or court review, see 47 CFR 1.1208. There are, however, exceptions to this prohibition, which can be found in Section 1.1204(a) of the Commission's rules, 47 CFR 1.1204(a).

See Sections 1.415 and 1.420 of the Commission's rules for information regarding the proper filing procedures for comments, 47 CFR 1.415 and 1.420.

List of Subjects in 47 CFR Part 73

Television.

Federal Communications Commission.
Thomas Horan,
Chief of Staff, Media Bureau.

Proposed Rule

For the reasons discussed in the preamble, the Federal Communications Commission proposes to amend 47 CFR part 73 as follows:

PART 73 — Radio Broadcast Service

1. The authority citation for part 73 continues to read as follows:

Authority: 47 U.S.C. 154, 155, 301, 303, 307, 309, 310, 334, 336, 339.

2. In § 73.622 in paragraph (i), amend the Post-Transition Table of DTV Allotments under Texas by revising the entry for Fredericksburg to read as follows:

§ 73.622 Digital television table of allotments.

* * * * *

(i) * * *

Community | Channel No.
* * * * *
Texas
* * * * *
Fredericksburg | 8
* * * * *

[FR Doc. 2021-13562 Filed 6-24-21; 8:45 am]

BILLING CODE 6712-01-P